DEPARTMENT OF TRANSPORTATION

Office of the Secretary

Notice of Applications for Certificates of Public Convenience and Necessity and Foreign Air Carrier Permits Filed Under Subpart B (Formerly Subpart Q) During the Week Ending August 9, 2014

The following Applications for Certificates of Public Convenience and Necessity and Foreign Air Carrier Permits were filed under Subpart B (formerly Subpart Q) of the Department of Transportation's Procedural Regulations (See 14 CFR 302.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2014-0134.

Date Filed: August 5, 2014.

Due Date for Answers, Conforming Applications, or Motion to Modify Scope: August 26, 2014.

Description: Application of Aeroenlaces Nacionales, S.A. de C.V.(d/b/a vivaAerobus) requesting an exemption authorizing it to engage in scheduled foreign air transport of persons, property and mail between Houston, Texas and Cancun, Mexico. In addition, vivaAerobus requests that the Department amend the carrier's foreign air carrier permit to integrate the exemption authority requested and vivaAerobus's existing exemption authority to eliminate the need to apply for repeated renewals of the exemption authority.

Barbara J. Hairston,
Supervisory Dockets Officer, Docket Operations, Federal Register Liaison.

[FR Doc. 2014-22144 Filed 9-24-14; 8:45 am]

BILLING CODE 4910-9X-P